DEPARTMENT OF JUSTICE

Notice of Lodging of Proposed Amendment to Consent Decree Under the Comprehensive Environmental Repsonse, Compensation, and Liability Act

On November 5, 2015, the Department of Justice lodged a proposed Amendment to Consent Decree with the United States District Court for the Northern District of New York in the lawsuit entitled United States of America v. Amphenol Corporation, et al., Civil Action No. 3:01-CV-0637. The caption is different from the caption in the original Consent Decree since companies have gone out of business, changed their names, etc.

The original Consent Decree, entered in 2001, resolved certain claims of the United States under Sections 106 and 107(a) of the Comprehensive Environmental Response, Compensation, and Liability Act of 1980, as amended (“CERCLA”), 42 U.S.C. 9606 and 9607(a), in connection with the performance of the remedial design and remedial action (“RD/RA”) selected for the Tri-Cities Barrel Superfund Site, located in the Town of Fenton, Broome County, New York (the “Site”), by the United States Environmental Protection Agency (“EPA”) in a Record of Decision executed March 31, 2000, and the reimbursement of response costs. The original Consent Decree required the active remediation of the soils, sediments and groundwater at the Site, with the soils and sediment remediation having now been completed. The Amendment to the Consent Decree is made necessary because EPA in 2011 issued a ROD Amendment which changes the active groundwater remediation to Monitoring Natural Attenuation (MNA).

The publication of this notice opens a period for public comment on the Amendment to Consent Decree. Comments should be addressed to the Assistant Attorney General, Environment and Natural Resources Division, John C. Cruden and should refer to United States of America v. Amphenol Corporation, et al., D.J. Ref. No. 90-11-3-1514/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Amendment to Consent Decree may be examined and downloaded at this Justice Department Web site: http://www.justice.gov/enrd/consent-decrees. We will provide a paper copy of the Amendment to Consent Decree upon written request and payment of reproduction costs. Please mail your request and payment to:

Consent Decree Library, U.S. DOJ—ENRD, P.O. Box 7611, Washington, DC 20044-7611.

Please enclose a check or money order for $17.13 (25 cents per page reproduction cost) payable to the United States Treasury, if you are requesting the new Appendices to the Amendment, or $5.63 if you are only requesting the Amendment to the Consent Decree.

Robert E. Maher Jr.,
Assistant Section Chief, Environmental Enforcement Section, Environment and Natural Resources Division.

[FR Doc. 2015-28850 Filed 11-13-15; 8:45 am]

BILLING CODE 4410-15-P